FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 017378N.

Name: M.W. Freight Forwarding Corp.

Address: 0300 Northwest 19th Street, Ste. 104, Miami, FL 33172.

Date Revoked: July 31, 2008.

Reason: Failed to maintain a valid bond.

License Number: 017767N.

Name: Empire Express, Inc.

Address: 147-39 175th Street, Jamaica, NY 11434.

Date Revoked: July 27, 2008.

Reason: Failed to maintain a valid bond.

License Number: 020499F.

Name: KOC Enterprise Inc.

Address: 111 Lakeview Drive, Old Tappan, NJ 07675.

Date Revoked: July 31, 2008.

Reason: Failed to maintain a valid bond.

License Number: 020747N.

Name: Prime Logistics Int'l, Inc.

Address: 6900 NW 84th Avenue, Miami, FL 33166.

Date Revoked: July 18, 2008.

Reason: Failed to maintain a valid bond.

License Number: 019586NF.

Name: USL Logistics, LLC.

Address: 3621 S. Harbor Blvd., Suite 225, Santa Ana, CA 92704.

Date Revoked: July 18, 2008.

Reason: Failed to maintain valid bonds.

Sandra L. Kusumoto,
Director, Bureau of Certification and Licensing.

[FR Doc. E8-19329 Filed 8-19-08; 8:45 am]

BILLING CODE 6730-01-P